FEDERAL MARITIME COMMISSION

Notice of Public Hearing; Passenger Vessel Financial Responsibility

AGENCY: Federal Maritime Commission.

ACTION: Public hearing.

SUMMARY: The Commission has determined to hold a public hearing on March 3, 2010 to receive public testimony concerning the Commission's Passenger Vessel Financial Responsibility Program.

DATES: Requests to participate in the Public Hearing are due February 16, 2010.

ADDRESSES: Address all requests to appear to: Karen V. Gregory, Secretary, Federal Maritime Commission, 800 North Capitol Street, NW., Room 1046, Washington, DC 20573-0001, (202) 523-5725, E-mail: secretary@fmc.gov.

FOR FURTHER INFORMATION CONTACT: Karen V. Gregory, Secretary, Federal Maritime Commission, 800 North Capitol Street, NW., Room 1046, Washington, DC 20573-0001, (202) 523-5725, E-mail: secretary@fmc.gov.

SUPPLEMENTARY INFORMATION: On December 3, 2009, the Commission announced that it had determined to issue a Notice of Inquiry (“NOI”) to solicit information and comments concerning the benefits and burdens of the current Commission requirements by which passenger vessel operators establish proof of financial responsibility in the event of nonperformance of a contracted cruise from a U.S. port. Comments received from the public and interested segments of the passenger cruise industry will assist in determining whether or not the Commission should amend its regulations at 46 CFR Part 540, Subpart A. Written comments in response to the NOI are due February 10, 2010. The Commission's NOI is posted on the Commission's Web site at http://www.fmc.gov and is also published elsewhere in this issue.

The NOI also announced that the Commission anticipated holding one or more hearings at which interested parties could make presentations concerning the Commission's passenger vessel financial responsibility program. The Commission has now determined to convene this public hearing on March 3, 2010. The hearing will be held in the Commission's Main Hearing Room, Room 100, 800 North Capital Street, NW., Washington, DC, at a time that will be announced in a subsequent notice.

Requests to appear at the hearing must be filed with the Office of the Secretary no later than 5 p.m. on February 16, 2010, and include the name, street address, email, address, telephone number, and the name of your company or employer, if any. Parties wishing to participate should also provide a brief statement describing the nature of their business, e.g., PVO, port, industry association, credit and financial company, surety, guarantor, insurer, travel agent, cruise passenger, or other interested party.

Requests to appear should be addressed to the Office of the Secretary and submitted: By e-mail as an attachment (Microsoft Word) sent to secretary@fmc.gov; by facsimile to 202-523-0014; or by U.S. mail or courier to Federal Maritime Commission, 800 North Capitol Street, NW., Washington, DC 20573. Please note, to avoid delay, email or facsimile submissions are encouraged. The Commission will announce the time of the hearing, the order of presentation, and time allotment prior to the March 3, 2010 hearing.

By the Commission.
Karen V. Gregory,
Secretary.

[FR Doc. 2010-1797 Filed 1-27-10; 8:45 am]

BILLING CODE P